DEPARTMENT OF COMMERCE

National Oceanic and Atmospheric Administration

RIN 0648-XR48

Marine Mammals; File No. 13602

AGENCY: National Marine Fisheries Service (NMFS), National Oceanic and Atmospheric Administration (NOAA), Commerce.

ACTION: Notice; issuance of permit.

SUMMARY: Notice is hereby given that Dr. Terrie Williams, Long Marine Lab, Institute of Marine Sciences, University of California at Santa Cruz, 100 Shaffer Road, Santa Cruz, CA 95060, has been issued a permit to conduct research on captive marine mammals.

ADDRESSES: The permit and related documents are available for review upon written request or by appointment in the following office(s): Permits, Conservation and Education Division, Office of Protected Resources, NMFS, 1315 East-West Highway, Room 13705, Silver Spring, MD 20910; phone (301)713-2289; fax (301)713-0376; and Southwest Region, NMFS, 501 West Ocean Blvd., Suite 4200, Long Beach, CA 90802-4213; phone (562)980-4001; fax (562)980-4018.

FOR FURTHER INFORMATION CONTACT: Jennifer Skidmore or Amy Sloan, (301)713-2289.

SUPPLEMENTARY INFORMATION: On October 8, 2008, notice was published in the Federal Register (73 FR 58941) that a request for a scientific research permit to conduct research on captive marine mammals had been submitted by the above-named individual. The requested permit has been issued under the authority of the Marine Mammal Protection Act of 1972, as amended (16 U.S.C. 1361 et seq.) and the regulations governing the taking and importing of marine mammals (50 CFR part 216).

The issued permit allows for the continuation of research activities authorized under Permit No. 984-1587. This research compares the energetic responses and diving physiology of odontocetes and pinnipeds to determine key physiological factors required for survival. Two adult bottlenose dolphins (Tursiops truncatus) currently maintained at Long Marine Lab will continue to be used as research subjects. Additional odontocetes and other marine mammal species (up to 122 animals representing 7 species over 5 years) would be added through cooperative agreements with accredited zoological institutions. Other species and subjects from rehabilitation and stranding programs may be added opportunistically. This permit has been issued for five years.

In compliance with the National Environmental Policy Act of 1969 (42 U.S.C. 4321 et seq.), a final determination has been made that the activity proposed is categorically excluded from the requirement to prepare an environmental assessment or environmental impact statement.

Dated: September 4, 2009.
P. Michael Payne,
Chief, Permits, Conservation and Education Division, Office of Protected Resources, National Marine Fisheries Service.

[FR Doc. E9-21880 Filed 9-9-09; 8:45 am]

BILLING CODE 3510-22-S